DEPARTMENT OF STATE

[Public Notice No. 3612]

Bureau of Political-Military Affairs; Third-Country Exports through Indonesia

AGENCY: Department of State.

ACTION: Notice.

SUMMARY: Notice is hereby given that requests for export and retransfer of defense articles and defense services to Indonesia for ultimate end-use by a third-country, pursuant to Section 38 of the Arms Export Control Act, will be considered on a case-by-case basis.

EFFECTIVE DATE: November 28, 2000.

FOR FURTHER INFORMATION CONTACT: Mal Zerden, Senior Analyst, Office of Defense Trade Controls, Bureau of Political-Military Affairs, Department of State, 202-663-2714.

SUPPLEMENTARY INFORMATION: On October 14, 1999, a Federal Register Notice was published (Volume 64, Number 198) that suspended all licenses and approvals to export or otherwise transfer defense articles and defense services to Indonesia, except for certain exports related to commercial communication satellites and Y2K compliance activities that are not for the Indonesian military. The October 14, 1999 Federal Register notice set forth a policy of denial for new export requests except those that met the exception.

A Federal Register notice was published on January 25, 2001 that permitted review, on a case-by-case basis, of requests for the export of C-130 spare parts to Indonesia, including for the Government of Indonesia.

This Notice expands the exception of those defense articles/defense services eligible for export consideration to, on a case by case basis, those defense articles/defense services exported to Indonesia for ultimate end-use by a third-country.

Dated: March 16, 2001.
Gregory Suchan,
Acting Assistant Secretary, Bureau of Political-Military Affairs, U.S. Department of State.

[FR Doc. 01-7160 Filed 3-21-01; 8:45 am]

BILLING CODE 4710-15-P